DEPARTMENT OF AGRICULTURE

Office of the Secretary

USDA Increases the Fiscal Year 2016 Raw Sugar Tariff-Rate Quota

AGENCY: Office of the Secretary, USDA.

ACTION: Notice.

SUMMARY: The Office of the Secretary of the Department of Agriculture is providing notice of an increase in the fiscal year (FY) 2016 raw cane sugar tariff-rate quota (TRQ) of 127,006 metric tons raw value (MTRV).

DATES: Effective May 18, 2016.

FOR FURTHER INFORMATION CONTACT: Souleymane Diaby, Import Policies and Export Reporting Division, Foreign Agricultural Service, Stop 1021, U.S. Department of Agriculture, Washington, DC 20250-1021; or by telephone (202) 720-2916; or by fax to (202) 720-8461; or by email to Souleymane.Diaby@fas.usda.gov.

SUPPLEMENTARY INFORMATION: The Office of the Secretary of the Department of Agriculture is providing notice of an increase in the fiscal year (FY) 2016 (October 1, 2015-September 30, 2016) raw cane sugar tariff-rate quota (TRQ) of 127,006 metric tons raw value (MTRV). On June 15, 2015, the Office of the Secretary established the FY 2016 TRQ for raw cane sugar at 1,117,195 MTRV (1,231,497 short tons raw value, STRV *), the minimum to which the United States is committed under the World Trade Organization (WTO) Uruguay Round Agreements. (80 FR 34129). Pursuant to Additional U.S. Note 5 to Chapter 17 of the U.S. Harmonized Tariff Schedule (HTS) and Section 359k of the Agricultural Adjustment Act of 1938, as amended, the Secretary of Agriculture gives notice of an increase in the quantity of raw cane sugar eligible to enter at the lower rate of duty during FY 2016 by 127,006 MTRV (140,000 STRV). With this increase, the overall FY 2016 raw sugar TRQ is now 1,244,201 MTRV (1,371,497 STRV). Raw cane sugar under this quota must be accompanied by a certificate for quota eligibility and may be entered until September 30, 2016. The Office of the U.S. Trade Representative will allocate this increase among supplying countries and customs areas.

* Conversion factor: 1 metric ton = 1.10231125 short tons.

This action is being taken after a determination that additional supplies of raw cane sugar are required in the U.S. market. USDA will closely monitor stocks, consumption, imports and all sugar market and program variables on an ongoing basis, and may make further program adjustments during FY 2016 if needed.

Dated: May 13, 2016.
Alexis M. Taylor,
Deputy Under Secretary, Farm and Foreign Agricultural Services.

[FR Doc. 2016-11732 Filed 5-17-16; 8:45 am]

BILLING CODE 3410-10-P